DEPARTMENT OF TRANSPORTATION

Bureau of Transportation Statistics

[Docket Number DOT-OST-2017-0043]

Agency Information Collection Activity; Continue To Collect Information: Oil and Gas Industry Safety Data Program

AGENCY: Office of the Assistant Secretary for Research and Technology (OST-R), Bureau of Transportation Statistics (BTS), U.S. Department of Transportation.

ACTION: 30-Day notice.

SUMMARY: On October 21, 2021, the Bureau of Transportation Statistics (BTS) announced its intention in a Federal Register Notice to request that the Office of Management and Budget (OMB) approve the following information collection: Voluntary Oil and Gas Industry Safety Data Program. The Oil and Gas Industry Safety Data (ISD) program, is a component of BTS's SafeOCS data sharing framework, that provides a trusted, proactive means for the oil and gas industry to report sensitive and proprietary safety information, and to identify early warnings of safety problems and potential issues by uncovering hidden, at-risk conditions not previously exposed through analysis of reportable accidents and incidents. The ISD identifies a broader range of data categories to ensure safe performance and appropriate risk management, which adds a learning component to assist the oil and gas industry in achieving improved safety performance.

DATES: Written comments should be submitted by July 18, 2022.

ADDRESSES: BTS seeks public comments on its proposed information collection. Comments should address whether the information will have practical utility; the accuracy of the estimated burden hours of the proposed information collection's ways to enhance the quality, utility and clarity of the information to be collected; and ways to minimize the burden of the collection of information on respondents, including the use of automated collection techniques or other forms of information technology. Send comments to the Office of Information and Regulatory Affairs, Office of Management and Budget, 725-17th Street NW, Washington, DC 20503, Attention: BTS Desk Officer.

FOR FURTHER INFORMATION CONTACT: Demetra V. Collia, Bureau of Transportation Statistics, Office of the Assistant Secretary for Research and Technology, U.S. Department of Transportation, Office of Safety Data and Analysis (OSDA), RTS-34, E36-302, 1200 New Jersey Avenue SE, Washington, DC 20590-0001; Phone No. (202) 366-1610; Fax No. (202) 366-3383; email: demetra.collia@dot.gov. Office hours are from 8:30 a.m. to 5 p.m., EST, Monday through Friday, except Federal holidays.

Data Confidentiality Provisions: The confidentiality of oil and gas industry safety data information submitted to BTS is protected under the BTS confidentiality statute (49 U.S.C. 6307) and the Confidential Information Protection and Statistical Efficiency Act (CIPSEA) of 2018; (Pub. L.: 115-435 Foundations for Evidence-Based Policymaking Act of 2018, Title III.)

In accordance with these confidentiality statutes, only statistical (aggregated) and non-identifying data will be made publicly available by BTS through its reports. BTS will not release to the Bureau of Safety and Environmental Enforcement (BSEE), or to any other public or private entity, any information that might reveal the identity of individuals or organizations mentioned in failure notices or reports without explicit consent of the respondent and any other affected entities.

SUPPLEMENTARY INFORMATION:

I. The Data Collection

The Paperwork Reduction Act of 1995 (44 U.S.C. chapter 35; as amended) and 5 CFR part 1320 require each Federal agency to obtain OMB approval to initiate an information collection activity. BTS is seeking OMB approval for the following BTS information collection activity:

Title: Oil and Gas Industry Safety Data (ISD) Program.

OMB Control Number: TBD.

Type of Review: Approval to Continue to Collect.

Respondent: Oil and Gas industry companies involved in the exploration and/or productions working in the Gulf of Mexico (GOM).

Number of Potential Responses: 100.

Estimated Time per Response: 4 hours per data file.

Frequency: Annual.

Total Annual Burden: 400 hours.

II. Public Participation and Request for Public Comments

On October 21, 2021, BTS published a Notice (86 FR 58391) encouraging interested parties to submit comments to Document Number 2021-22280 and allowing for a 60-day comment period. The comment period closed on December 20, 2021. There were no comments. To view the Notice, go to http://www.regulations.gov and insert the Document Number 2021-22280 in the “search” box and click “Search.” Next click “Open Docket Folder” button and choose document listed to review. If you do not have access to the internet, you may view the docket by visiting the Docket Management Facility in Room Wl 2-140 on the ground floor of the DOT West Building, 1200 New Jersey Ave. SE, Washington, DC 20590, between 9 a.m. and 5 p.m. Monday through Friday, except Federal holidays.

Privacy Act

All comments the BTS received were posted without change to http://www.regulations.gov. Anyone may search the electronic form of all comments received into any of our dockets by the name of the individual submitting the comment (or of the person signing the comment, if submitted on behalf of an association, business, labor union, etc.) You may review DOT's complete Privacy Act Statement in the Federal Register published on January 17, 2008 (73 FR 3316), or you may visit http://edocket.access.gpo.gov/2008/pdf/E8-785.pdf).

III. Discussion of Public Comments and BTS Responses

On October 21, 2021, BTS announced in a Federal Register Notice (86 FR 58391) its intention to request that OMB approve the continued collection of safety data from the oil and gas industry for the ISD Program. BTS received no comments during the 60-day public comment period.

Demetra Collia,
Director, Office of Safety Data and Analysis, Office of the Assistant Secretary for Research and Technology, U.S. Department of Transportation.

[FR Doc. 2022-12981 Filed 6-15-22; 8:45 am]

BILLING CODE 4910-9X-P